DEPARTMENT OF AGRICULTURE

Submission for OMB Review; Comment Request

March 24, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by April 29, 2015 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Interstate Movement of Sheep and Goats; Recordkeeping for Approved Livestock Marketing Facilities and Slaughtering and Rendering Establishments.

OMB Control Number: 0579-0258.

Summary of Collection: The Animal Health Protection Act (AHPA) of 2002 is the primary Federal law governing the protection of animal health. The law gives the Secretary of Agriculture broad authority to detect, control, or eradicate pests or diseases of livestock or poultry. Disease surveillance and prevention is the most effective method for maintaining a healthy animal population and enhancing the ability of the Animal and Plant Health Inspection Service (APHIS) to help U.S. producers compete in the world market of animal and animal product trade. The Veterinary Services (VS) program of APHIS is the unit responsible for carrying out the disease prevention mission. One of the APHIS disease eradication programs addresses scrapie. Scrapie is a progressive, degenerative, and eventually fatal disease affecting the central nervous system of sheep and goats. APHIS' regulations 9 CFR 71.20 and 9 CFR 71.21 regarding the movement of livestock to require approved livestock auction market facilities, slaughtering establishments, and rendering establishments to maintain certain records for 5 years (2 years if the records regard only swine or poultry).

APHIS is merging the information collection 0579-0342, Recordkeeping for Approved Livestock Facilities, Slaughtering, and Rendering Establishments, into this package 0579-0258. These collections include the same regulations; therefore, it will be more efficient to have them consolidated into one collection. Collection 0579-0342 will be discontinued once this collection is approved.

Need and Use of the Information: In order for APHIS' Disease prevention program to be effective, its animal identification, recordkeeping, and other requirements must be carried out at livestock facilities that handle livestock and poultry moving in interstate commerce. The individual legally responsible for the day-to-day operation of the facility must execute an Approval of Livestock Facilities Agreement with APHIS. The information restricts the interstate movement of livestock within the United States to control diseases of concern and approve livestock facilities and slaughtering and rendering establishments that handle livestock moving in interstate commerce.

Description of Respondents: Business or other for-profit; State, Local or Tribal Government.

Number of Respondents: 234.

Frequency of Responses: Recordkeeping; Reporting: On occasion.

Total Burden Hours: 604.

Ruth Brown,
Departmental Information Collection Clearance Officer.

[FR Doc. 2015-07119 Filed 3-27-15; 8:45 am]

BILLING CODE 3410-34-P